DEPARTMENT OF TRANSPORTATION

Federal Aviation Administration

14 CFR Part 39

[Docket No. FAA-2012-0643; Directorate Identifier 2011-NM-190-AD; Amendment 39-17241; AD 2012-22-05]

RIN 2120-AA64

Airworthiness Directives; Fokker Services B.V. Airplanes

AGENCY: Federal Aviation Administration (FAA), Department of Transportation (DOT).

ACTION: Final rule.

SUMMARY: We are superseding an existing airworthiness directive (AD) for certain Fokker Services B.V. Model F.28 Mark 0070 and 0100 airplanes. That AD currently requires performing a detailed visual inspection for cracks of the pistons on the main landing gear (MLG), and replacing the affected pistons if necessary. This new AD also requires modifying the MLG by installing a piston containing a certain part number, and revising the airplane maintenance program. This AD was prompted by a new modification developed to safeguard the integrity of the MLG assembly and improve surface protection of the affected area of the MLG piston. We are issuing this AD to prevent MLG failure, possibly resulting in loss of control of the airplane during the landing roll-out.

DATES: This AD becomes effective December 20, 2012.

The Director of the Federal Register approved the incorporation by reference of certain publications listed in this AD as of December 20, 2012.

The Director of the Federal Register approved the incorporation by reference of a certain other publication listed in this AD as of March 22, 2011 (76 FR 8618, February 15, 2011).

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Tom Rodriguez, Aerospace Engineer, International Branch, ANM-116, Transport Airplane Directorate, FAA, 1601 Lind Avenue SW., Renton, Washington 98057-3356; telephone 425-227-1137; fax 425-227-1149.

SUPPLEMENTARY INFORMATION:

Discussion

We issued a notice of proposed rulemaking (NPRM) to amend 14 CFR part 39 to include an AD that would apply to the specified products. That NPRM was published in the Federal Register on June 21, 2012 (77 FR 37337), and proposed to supersede AD 2011-04-01, Amendment 39-16601 (76 FR 8618, February 15, 2011). That NPRM proposed to correct an unsafe condition for the specified products. The Mandatory Continuing Airworthiness Information (MCAI) states:

During a normal walk around check on a F28 Mark 0100 aeroplane, a large crack was discovered in the lower portion of the right (RH) MLG piston. The affected MLG unit had accumulated 7,909 flight cycles (FC) at the time of detection. The piston was sent to Goodrich, the landing gear manufacturer, for detailed investigation, which revealed that the crack had been initiated by corrosion pits. The extent of the corrosion indicates that the initial crack existed for a substantial period before a high loading event caused the crack to grow further by ductile overload.

This condition, if not detected and corrected, could lead to MLG failure during the landing roll-out, possibly resulting in damage to the aeroplane and injury to occupants.

To address this potential unsafe condition, EASA [European Aviation Safety Agency] issued AD 2009-0221 [which corresponds with FAA AD 2011-04-01, Amendment 39-16601 (76 FR 8618, February 15, 2011)] to require a one-time detailed visual inspection of the MLG pistons, the replacement of any MLG pistons on which cracks are detected, and the reporting of all findings to the aeroplane TC [type certificate] holder. No cracks were reported as a result of this inspection.

Subsequently, a repetitive inspection was introduced in the Airworthiness Limitations Section (Fokker Services report SE-623 Issue 8) in Appendix 1 of the Maintenance Review Board (MRB) document to safeguard the integrity of the MLG assembly, pending the accomplishment of a terminating action.

Goodrich issued Service Bulletin (SB) 41000-32-29 to introduce an improved surface protection (nickel plate) of the affected area of the MLG piston P/N [part number] 41141-3 and re-identification as P/N 41141-5, which is considered as a terminating action for the repetitive inspections.

For the reasons described above, this [EASA] AD requires repetitive visual inspections of the P/N 41141-3 MLG piston for cracks and, depending on findings, replacement or modification of the MLG piston. This [EASA] AD also requires modification of the affected MLG by installing a piston P/N 41141-5.

You may obtain further information by examining the MCAI in the AD docket.

Change Made to This AD

We have revised paragraphs (k), (l), and (n), of this final rule to clarify the document citation of Fokker Report SE-623 to meet the Office of Federal Register's guidelines for materials incorporated by reference. There is no change to the requirements specified in those paragraphs.

Comments

We gave the public the opportunity to participate in developing this AD. We received no comments on the NPRM (77 FR 37337, June 21, 2012) or on the determination of the cost to the public.

Conclusion

We reviewed the available data and determined that air safety and the public interest require adopting the AD as proposed—except for minor editorial changes. We have determined that these minor changes:

• Are consistent with the intent that was proposed in the NPRM (77 FR 37337, June 21, 2012) for correcting the unsafe condition; and

• Do not add any additional burden upon the public than was already proposed in the NPRM (77 FR 37337, June 21, 2012).

Costs of Compliance

We estimate that this AD will affect about 2 products of U.S. registry.

The actions that are required by AD 2011-04-01, Amendment 39-16601 (76 FR 8618, February 15, 2011), and retained in this AD take about 3 work-hours per product, at an average labor rate of $85 per work-hour. Based on these figures, the estimated cost of the currently required actions is $255 per product.

We estimate that it will take about 24 work-hours per product to comply with the new basic requirements of this AD. The average labor rate is $85 per work-hour. Based on these figures, we estimate the cost of this AD to the U.S. operators to be $4,080, or $2,040 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 37337, June 21, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2011-04-01, Amendment 39-16601 (76 FR 8618, February 15, 2011), and adding the following new AD:

2012-22-05 Fokker Services B.V.: Amendment 39-17241. Docket No. FAA-2012-0643; Directorate Identifier 2011-NM-190-AD.

(a) Effective Date

This airworthiness directive (AD) becomes effective December 20, 2012.

(b) Affected ADs

This AD supersedes AD 2011-04-01, Amendment 39-16601 (76 FR 8618, February 15, 2011).

(c) Applicability

(1) This AD applies to Fokker Services B.V. Model F.28 Mark 0070 and 0100 airplanes, certificated in any category, all serial numbers, equipped with Goodrich (formerly Menasco, Colt Industries) main landing gear (MLG) units, part numbers (P/N) 41050-7, 41050-8, 41050-9, 41050-10, 41050-11, 41050-12, 41050-13, 41050-14, 41050-15, 41050-16, 41060-1, 41060-2, 41060-3, 41060-4, 41060-5, or 41060-6.

(2) This AD requires revisions to certain operator maintenance documents to include new actions (e.g., inspections). Compliance with these inspections is required by 14 CFR 91.403(c). For airplanes that have been previously modified, altered, or repaired in the areas addressed by these actions, the operator may not be able to accomplish the actions described in the revisions. In this situation, to comply with 14 CFR 91.403(c), the operator must request approval for an alternative method of compliance (AMOC) according to paragraph (m)(1) of this AD. The request should include a description of changes to the required inspections that will ensure the continued operational safety of the airplane.

(d) Subject

Air Transport Association (ATA) of America Code 32: Landing Gear.

(e) Reason

This AD was prompted by a new modification developed to safeguard the integrity of the MLG assembly and improve surface protection of the affected area of the MLG piston. We are issuing this AD to prevent MLG failure, possibly resulting in loss of control of the airplane during the landing roll-out.

(f) Compliance

You are responsible for having the actions required by this AD performed within the compliance times specified, unless the actions have already been done.

(g) Retained Initial Inspection

This paragraph restates the initial inspection required by paragraph (g) of AD 2011-04-01, Amendment 39-16601 (76 FR 8618, February 15, 2011). Within 30 days after March 22, 2011 (the effective date of AD 2011-04-01), do a detailed visual inspection for cracks of the MLG pistons, in accordance with the Accomplishment Instructions of Fokker Service Bulletin SBF100-32-158, dated October 2, 2009.

(h) Retained Replacement

This paragraph restates the replacement required by paragraph (h) of AD 2011-04-01, Amendment 39-16601 (76 FR 8618, February 15, 2011). If any cracked MLG piston is found during the inspection required by paragraph (g) of this AD, before further flight, replace the affected piston with a serviceable part, in accordance with the Accomplishment Instructions of Fokker Service Bulletin SBF100-32-158, dated October 2, 2009.

(i) New Modification

Within 120 months, or during a scheduled overhaul of the MLG, whichever occurs first after the effective date of this AD: Modify the MLG by installing a piston containing P/N 41141-5, in accordance with the Accomplishment Instructions of Fokker Service Bulletin SBF100-32-161, dated April 7, 2011. Re-installation of a MLG piston that has been modified and re-identified as P/N 41141-5, in accordance with the Accomplishment Instructions of Goodrich Service Bulletin 41000-32-29, dated November 10, 2010, is an optional method of compliance for the requirements specified in paragraph (i) of this AD. It is acceptable to operate an airplane with one MLG having a P/N 41141-5 piston installed, and the other MLG having a P/N 41141-3 piston installed, provided all MLG P/N 41141-3 are replaced within the compliance times specified in paragraph (i) of this AD.

(j) New Parts Installation Prohibition

After 120 months after the effective date of this AD: No person may install a MLG piston, P/N 41141-3, or a MLG unit equipped with a MLG piston P/N 41141-3, on any airplane.

(k) New Revision of the Airplane Maintenance Program

Within 2 months after the effective date of this AD: Revise the airplane maintenance program by incorporating Task 321100-01-16, Inspection of MLG Piston, and associated thresholds and intervals described in Fokker Report, SE-623, Fokker 70/100 Airworthiness Limitation Items and Safe Life Items, Issue 8, dated December 20, 2010. The initial compliance time for Task 321100-01-16 is within 2 months after the effective date of this AD.

(l) No Alternative Actions or Intervals

After accomplishing the revisions required by paragraph (k) of this AD, no alternative actions (e.g., inspections) or intervals may be used other than those specified in Fokker Report, SE-623, Fokker 70/100 Airworthiness Limitation Items and Safe Life Items, Issue 8, dated December 20, 2010, unless the actions and intervals are approved as an AMOC in accordance with the procedures specified in paragraph (m)(1) of this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(n) Related Information

Refer to MCAI European Aviation Safety Agency Airworthiness Directive 2011-0159, dated August 26, 2011, and the service information specified in paragraphs (n)(1)through (n)(4) of this AD, for related information.

(1) Fokker Service Bulletin SBF100-32-158, dated October 2, 2009.

(2) Fokker Service Bulletin SBF100-32-161, dated April 7, 2011.

(3) Fokker Report, SE-623, Fokker 70/100 Airworthiness Limitation Items and Safe Life Items, Issue 8, dated December 20, 2010.

(4) Goodrich Service Bulletin 41000-32-29, dated November 10, 2010.

(o) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on December 20, 2012.

(i) Fokker Service Bulletin SBF100-32-161, dated April 7, 2011.

(ii) Fokker Report, SE-623, Fokker 70/100 Airworthiness Limitation Items and Safe Life Items, Issue 8, dated December 20, 2010.

(iii) Goodrich Service Bulletin 41000-32-29, dated November 10, 2010.

(4) The following service information was approved for IBR on March 22, 2011 (76 FR 8618, February 15, 2011).

(i) Fokker Service Bulletin SBF100-32-158, dated October 2, 2009.

(ii) Reserved.

(5) For service information identified in this AD, contact Fokker Services B.V., Technical Services Dept., P.O. Box 231, 2150 AE Nieuw-Vennep, the Netherlands; telephone +31 (0)252-627-350; fax +31 (0)252-627-211; email technicalservices.fokkerservices@stork.com; Internet http://www.myfokkerfleet.com. For Goodrich Corporation service information identified in this AD, contact Goodrich, 1400 South Service Road, West Oakville, L6L 5Y7, Ontario, Canada, telephone +1-905-827-7777; fax +1-905-825-1583; Internet http://www.goodrich.com/TechPubs.

(6) You may review copies of the service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on October 24, 2012.
Kalene C. Yanamura,
Acting Manager, Transport Airplane Directorate, Aircraft Certification Service.

[FR Doc. 2012-26781 Filed 11-14-12; 8:45 am]

BILLING CODE 4910-13-P